COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds service(s) to the Procurement List that will be furnished by nonprofit agencies employing persons who are blind or have other severe disabilities, and deletes service(s) from the Procurement List previously furnished by such agencies.

DATES: Date added to and deleted from the Procurement List: January 27, 2021.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 9/11/2020 and 10/16/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service(s) to the Government.

2. The action will result in authorizing small entities to furnish the service(s) to the Government.

3. There are no known regulatory alternatives which would accomplish the objectives of the Javits-Wagner-O'Day Act (41 U.S.C. 8501-8506) in connection with the service(s) proposed for addition to the Procurement List.

End of Certification

Accordingly, the following service(s) are added to the Procurement List:

Service(s)

Service Type: Janitorial Service

Mandatory for: U.S. Department of Energy, Hanford Site and Richland North Areas, Richland, WA

Designated Source of Supply: Nobis Enterprises, Inc., Marietta, GA

Contracting Activity: ENERGY, DEPARTMENT OF, RICHLAND OPERATIONS OFFICE

Service Type: Custodial Service

Mandatory for: US Air Force, JBSA Lackland, Lackland Training Annex, Kelly Annex, San Antonio, TX

Designated Source of Supply: HHI Services Inc., San Antonio, TX

Contracting Activity: DEPT OF THE AIR FORCE, FA3016 502 CONS CL JBSA

Deletions

On 11/20/2020, the Committee for Purchase From People Who Are Blind or Severely Disabled published notice of proposed deletions from the Procurement List. This notice is published pursuant to 41 U.S.C. 8503 (a)(2) and 41 CFR 51-2.3.

After consideration of the relevant matter presented, the Committee has determined that the service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the service(s) to the Government.

3. There are no known regulatory alternatives which would accomplish the objectives of the Javits-Wagner-O'Day Act (41 U.S.C. 8501-8506) in connection with the service(s) deleted from the Procurement List.

End of Certification

Accordingly, the following service(s) are deleted from the Procurement List:

Service(s)

Service Type: Document Destruction

Mandatory for: Internal Revenue Service: 40 West Baseline, Suite 211, Tempe, AZ

Mandatory for: Internal Revenue Service: 1244 Speer Blvd., Denver, CO

Mandatory for: Internal Revenue Service: 56 and 58 Inverness Drive E, Englewood, CO

Mandatory for: Internal Revenue Service: 4750 West Oak Boulevard, Las Vegas, NV

Mandatory for: Internal Revenue Service: 210 E. Earl Drive, Phoenix, AZ

Mandatory for: Internal Revenue Service: 50 South 200 East, Salt Lake City, UT

Mandatory for: Internal Revenue Service: 8671 Wolff Ct, Westminster, CO

Designated Source of Supply: Northwest Center, Seattle, WA

Contracting Activity: INTERNAL REVENUE SERVICE, DEPT OF TREAS/INTERNAL REVENUE SERVICE

Michael R. Jurkowski,
Deputy Director, Business & PL Operations.

[FR Doc. 2020-28598 Filed 12-23-20; 8:45 am]

BILLING CODE P